DEPARTMENT OF THE INTERIOR

National Park Service

[NPS-WASO-CONC-11166; 2410-OYC]

Notice of Continuation of Concession Contract

AGENCY: National Park Service, Interior.

ACTION: Notice.

SUMMARY: Pursuant to the terms of the listed concession contract, the National Park Service hereby gives public notice that it proposed to continue the concession contract listed below for a period not-to-exceed 1 year from the date of contract expiration.

DATES: Effective Date: October 1, 2012.

FOR FURTHER INFORMATION CONTACT: Jo A. Pendry, Chief, Commercial Services Program, National Park Service, 1201 Eye Street NW., 11th Floor, Washington, DC 20005, Telephone (202) 513-7156.

SUPPLEMENTARY INFORMATION: The contract listed below will expire by its terms on September 30, 2012. Pursuant to 36 CFR 51.23, the National Park Service has determined that the proposed continuation is necessary to avoid interruption of visitor services and has taken all reasonable and appropriate steps to consider alternatives to avoid such interruption.

Conc ID No. | Concessioner name | Park
LAKE004-98 | Lake Mead Cruises dba Lake Mead Ferry Service, Inc | Lake Mead National Recreation Area.

Dated: September 26, 2012.
Lena McDowall,
Associate Director, Business Services.

[FR Doc. 2012-26466 Filed 10-26-12; 8:45 am]

BILLING CODE 4312-53-P